DEPARTMENT OF LABOR

Employment and Training Administration

[TA-W-58,360]

Magna International, Red Oak, IA; Notice of Termination of Investigation

Pursuant to section 221 of the November 17, 2005 in response to a worker petition filed by a company official on behalf of workers at Magna International, Red Oak, Iowa.

The petitioner has requested that the petition be withdrawn. Consequently, the investigation has been terminated.

Signed at Washington, DC, this 8th day of December 2005.
Linda G. Poole,
Certifying Officer, Division of Trade Adjustment Assistance.

[FR Doc. E5-7959 Filed 12-27-05; 8:45 am]

BILLING CODE 4510-30-P